DEPARTMENT OF TRANSPORTATION

Pipeline and Hazardous Materials Safety Administration

[Docket No. PHMSA-2015-0205]

Pipeline Safety: Information Collection Activities

AGENCY: Pipeline and Hazardous Materials Safety Administration (PHMSA), DOT.

ACTION: Notice and request for comments.

SUMMARY: On May 13, 2016, in accordance with the Paperwork Reduction Act of 1995, the Pipeline and Hazardous Materials Safety Administration (PHMSA) published a notice in the Federal Register to invite comments on an information collection under Office of Management and Budget (OMB) Control No. 2137-0522 to revise three forms: (1) PHMSA F 7100.1 Incident Report—Gas Distribution System; (2) PHMSA F 7100.2 Incident Report—Natural and Other Gas Transmission and Gathering Pipeline Systems; and (3) PHMSA F 7100.3 Incident Report—Liquefied Natural Gas (LNG) Facilities, and the instructions associated with the Forms. PHMSA also invited comments on PHMSA F 7000-1 Accident Report-Hazardous Liquid Pipeline Systems and its associated instruction under OMB control number 2137-0047.

During the 60-day comment period, PHMSA received 10 comments from stakeholders in response to the proposed form revisions. All commenters, except one, supported the overall proposed changes to enhance pipeline safety. PHMSA is publishing this notice to respond to the specific comments received and to announce that the information collection will be submitted to OMB for approval.

DATES: Comments must be submitted on or before January 26, 2017.

ADDRESSES: Send comments regarding the burden estimate, including suggestions for reducing the burden, to OMB, Attention: Desk Officer for the Office of the Secretary of Transportation, 725 17th Street NW., Washington, DC 20503. You may also send comments by email to OIRA-submission@omb.eop.gov.

FOR FURTHER INFORMATION CONTACT: Angela Dow by telephone at 202-366-1246, by fax at 202-366-4566, or by mail at U.S. Department of Transportation, PHMSA, 1200 New Jersey Avenue SE., PHP-30, Washington, DC 20590-0001.

SUPPLEMENTARY INFORMATION:

I. Background

Section 1320.8(d), title 5, Code of Federal Regulations, requires PHMSA to provide interested members of the public and affected entities an opportunity to comment on information collection and recordkeeping requests. This notice identifies proposed changes to information collections that PHMSA will submit to OMB for approval. In order to streamline and improve the data collection processes, PHMSA is revising the incident report forms for both hazardous liquid and gas operators.

OMB Control Number 2137-0047, which covers the collection of hazardous liquid incident data, expires on December 31, 2016. OMB Control Number 2137-0522, which currently covers the collection of both annual report and incident data for gas operators, expires on October 31, 2017. To simplify the renewal process of these data collections in the future, PHMSA proposes collecting gas incident and gas annual reports under separate OMB control numbers. To achieve this, PHMSA plans to request a new OMB control number for the three gas incident forms currently under OMB Control No. 2137-0522. The remaining reports under this information collection—the Gas Transmission, LNG, and Mechanical Fitting Failure annual reports—will remain under their current OMB control number.

The 10 comments that PHMSA received in response to the May 13, 2016, Federal Register notice and request for comment, 81 FR 29943, came from the following parties: one public interest group (Pipeline Safety Trust (PST)); five from industry organizations (American Petroleum Institute (API)-Association of Oil Pipelines (AOPL) joint submission, API, American Gas Association (AGA), Interstate Natural Gas Association of America (INGAA), and Common Ground Alliance (CGA)); three natural gas operators (DTE Gas Company (DTE), Southwest Gas Corporation (SW), Paiute Pipeline Company (PPC)); and one manufacturer of compression fitting (Norton McMurray Manufacturing Company (NORMAC)).

A. PHMSA F 7100.1 Incident Report—Gas Distribution System

AGA, DTE, and, SW commented on PHMSA F 7100.1, Gas Distribution Incident Report. The comments are summarized and addressed below.

1. DTE noted that “Day Light Savings” in A4.b should be “Day Light Saving.” PHMSA has made the correction.

2. In response to removing the questions about “Incident Resulted From” (previous A8), DTE recommended retaining the ability for operators to report “NO RELEASE OF GAS” or a volume of zero in the form, particularly Parts A7 and A8. PHMSA has ensured the electronic submittal of the gas distribution form accepts “zero” in Parts A7 and A8.

3. DTE noted that there does not appear to be a data entry field provided for the “Initial Operator NRC Report Number” in Part A18 and suggested adding one. PHMSA confirms that Part A19 reads “Initial Operator National Response Center Report Number” and the electronic submission will allow the entry of the report number or the operator can choose “NRC Notification Required But Not Made.”

4. DTE noted that “the statement in the Federal Register Notice for this Information Collection Activity inferring that gas distribution systems are not typically shut down during an incident is inaccurate. While it is true that operators generally wish to minimize the effect of incidents on customer supply, portions of the gas distribution system may be isolated and shut down to make repairs by closing valves or by squeezing pipe on both sides of the damage. However, there are infrequent occurrences of having to shut down an entire distribution system.” In acknowledgement to the “infrequent occurrence” of having to shut down distribution systems, PHMSA has proposed to remove those specific questions for “shut downs.” PHMSA acknowledges that pipeline operators typically control the flow of gas in the smallest possible portion of the system. This change would allow stakeholders to understand the actions taken by the operator to control the flow of gas during incident response and Part A20 should provide a more complete understanding of the operator's response.

5. DTE recommended adding “unknown” to Parts A21a and A21c. AGA recommended adding “unknown” to Part A21c. PHMSA does not believe “unknown” should be an option in Part A21 “Did the gas ignite?” Operators should have that information during a reportable incident. SW recommended revising Part A21c to “Estimated Volume of Gas Consumed by Fire” from “Volume of Gas Consumed by Fire.” PHMSA agrees and revised the form to accommodate estimation rather than precise volume information. PHMSA understands that the calculation of gas consumed by fire requires some assumptions and estimates. However, PHMSA believes this information is important to understand the consequence of gas releases.

6. DTE commented that it will be unduly burdensome to determine the number of persons evacuated and the duration of each person's evacuation in order to provide a mathematical average length of evacuation for Part A23. On the current form, PHMSA collects the number of persons evacuated from buildings. To estimate the impact of evacuations, it is necessary to determine their length. This data would enable a more thorough determination of the benefit of proposed regulations. When an incident includes evacuations, pipeline operators may have to estimate the length of evacuation for each building and estimate the number people evacuated from each building. PHMSA revised Part A23 to say “Estimated Average Length of Evacuation.”

7. DTE recommended that PHMSA allow the ability to report “zero” for “Depth of Cover” in Part B3a. PHMSA confirms that operators will be able to enter “zero” for the “Depth of Cover” in Part B3a.

8. PHMSA will add “unable to determine” as an option to Part C2e “Did the EFV activate?” as DTE recommended. Actions taken by persons other than the operator may not leave sufficient evidence to discern if an EFV activated.

9. DTE recommended the cost of gas in Part D7 should be the unit cost rather than the billed unit costs, exclusive of operator overheads and taxes. PHMSA is seeking market price of gas to calculate the consequence of the incident. The unit cost should include all operator overheads, but not taxes. PHMSA has revised the instructions accordingly.

10. DTE recommends retaining the cost of “operator's emergency response” in Part D2c. PHMSA is seeking to capture the consequence of an incident in Part D2 where Part D2a is the cost of public and non-operator property damage and Part D2b is the estimated cost of operator's property damage and repairs. AGA recommends that the question be re-worded to “estimated cost of emergency response incurred by operator.” PHMSA understands that emergency responses are provided by both non-operator resources (city/town) and operator's resources and sometimes operators reimburse the non-operator emergency response portion. Therefore, PHMSA is proposing to collect one emergency response cost irrespective of who provides the service. PHMSA does not believe it should add “incurred by operator” since it is requesting the estimated cost of emergency response for the incident. PHMSA understands it is an estimated cost.

11. SW recommends “Total Cost” be revised to “Estimated Total Cost” in D2i to remain consistent with the “estimated” costs used to calculate this total. PHMSA agrees and has made the changes on the form.

12. In Part D PHMSA is proposing to collect number of persons injured, but not requiring overnight inpatient hospitalization, in two categories. The category proposed in D4 is for persons treated in a medical facility, but not admitted overnight. The category proposed in D5 is for persons treated by emergency medical technicians at the scene of an incident. These additional categories would more fully capture the consequences of an incident. DTE is concerned that PHMSA would “expect a gas operator to chase ambulances to determine how many on-site treatments were administered by EMT.” Currently, operators report the number of overnight, inpatient hospitalizations resulting from an incident. In order to accurately report, operators must communicate with injured parties or medical providers to determine the number of overnight, inpatient hospitalizations. Operators need this same communication to determine the number of persons treated at a medical facility but not admitted overnight. Under the Health Insurance Portability and Accountability Act of 1996, medical providers are permitted, but not required, to disclose protected health information without an individual's authorization in a number of situations. PHMSA encourages operators to communicate directly with injured parties and seek disclosure from medical providers as a last resort. PHMSA expects the number of persons treated on scene, but not in a medical facility, will be readily available. AGA suggested allowing “Unknown” to be reported instead of the number of injuries. When an operator has no knowledge of injuries in the new proposed categories, PHMSA expects the operator to report zero, not unknown.

13. DTE requested that PHMSA remove Parts D6 and D7 to report the number of residential buildings and business buildings affected. SW requests PHMSA to define “affected.” In the instructions, PHMSA proposes to define “affected” as “evacuated or required repair.” PHMSA has added “Evacuated or Required Repair” next to “Buildings Affected” on the form.

14. AGA recommended that PHMSA add § 192.621 (MAOP High pressure distribution system) and § 192.623 (MAOP Low pressure distribution systems) as sections listed under Part E3a. PHMSA agrees and revised the form to remove the option for “Other” and add code references § 192.621 and § 192.623.

15. DTE noted that the threshold of 110 percent of the MAOP in Part E4 is not appropriate for all distribution systems and recommended incorporating the pressure limits allowed in § 192.201(a). PHMSA agrees and has revised Part E4 by removing “110% MAOP” and adding “the applicable allowance in § 192.201.”

16. DTE questioned the relevance of the type of odorization system used for gas at the point of failure. PHMSA believes types of odorization in E5 is important information it needs in its incident report because it will help PHMSA and its state partners to correlate incident investigation findings with the information submitted by the operator on the form. PHMSA also notes this information is easily available to operators.

17. DTE noted that information regarding the type and source of stray current required in Parts G1.2a and G1.2b may not be easily obtained and readily available within the 30-day reporting period. PHMSA already collects information regarding whether “Stray Current” was the “Type of Corrosion.” When an operator determines stray current is the type of corrosion, it will also know the data required in Parts G1.2a and G1.2b. PHMSA agrees with DTE that determining the type of corrosion typically requires metallurgical analysis and comprehensive investigation of the pipe environment. PHMSA expects that operators would report the type of corrosion in a supplemental report. PHMSA does not believe this information will cause any undue hardship for gas distribution operators since only one out of 701 gas distribution incident reports submitted to PHMSA since 2010 indicated stray current as the type of corrosion.

18. DTE asks PHMSA to clarify Part G2. PHMSA's instruction on Part G2 says “High Winds” includes damage caused by wind induced forces. Select this category if the damage is due to the force of the wind itself. Damages caused by impact from objects blown by wind are to be reported under Part G4—Other Outside Force Damage. PHMSA provided Tree/Vegetation Root as a separate category under Part G2 and as per the instruction “Tree/Vegetation Roots includes damages caused by tree and vegetation roots.” Therefore, if high winds topple trees or vegetation and cause tree/vegetation roots to pull and damage distribution mains or service lines, the cause should be reported Under Part G2 “Trees/Vegetation Roots,” not under Part G4 “Other Outside Force Damage.”

19. PHMSA agrees with AGA's recommendation that “Damage from Snow/Ice Impact or Accumulation” should be added to Part G2, Natural Force Damage.

20. DTE was unable to identify new reporting requirements for excavation damage. The redlined form and instructions in the docket reflect the proposed addition of Parts E3b and E3c, which address reporting requirements for excavation damage.

21. API/AOPL recommended that PHMSA add two additional fields to Part G3 of the hazardous liquid accident report form. The two additional fields are “exempting authority” and “exempting criteria.” PHMSA agrees this additional information would be valuable on all PHMSA incident forms, so it proposes adding them to the gas distribution incident report as Parts G3.3d and G3.3e.

22. While AGA commends PHMSA for collecting additional information on “Damage by Car, Truck, or Other Motorized Vehicle/Equipment NOT Engaged in Excavation” in Part G4, DTE alleges that it is not an operator's responsibility to investigate and determine whether a driver violated laws. PHMSA understands that operators may not have answers to all questions about driver conduct, and points out that “unknown” is an option. PHMSA will accept AGA's recommendation and clarify in the instruction for Part G4.8 to note that operator should answer “no” if the driver was experiencing a medical condition at the time of incident.

23. AGA noted that Part G4.12 should refer to Part G4.11 and not Part G4.10. PHMSA has revised the question.

24. AGA and DTE advised PHMSA to consider Part G5 mechanical fitting failure data in light of requirements under § 192.1009, which requires the submittal of PHMSA F 7100.1-2 Mechanical Fitting Failures after an incident. In response, PHMSA proposes to replace all data about “Mechanical Fitting” and “Compression Fitting” failures in Part G5 with the report ID for PHMSA F 7100.1-2 Mechanical Fitting Failures. If the PHMSA F 7100.1-2 report has not been submitted before the incident report, “Report Pending” can be submitted in Part G5. This change will alleviate the concern of SW about the lot number and model number for mechanical fittings.

25. DTE requested an option of “Unknown” in Part G6.4b for “manufactured by” and in Part G6.4c for “Year Manufactured.” Part G6.4b is a text field and operators can type unknown in the field. PHMSA has added “Unknown” as an option in Part G6.4c.

26. DTE requested PHMSA remove the “Contributing Factors” in Part J and does not believe that the National Transportation Safety Board's (NTSB) recommendation is applicable to gas distribution system. PHMSA believes this information would help stakeholders develop a more thorough understanding of the incident and ways to prevent future incidents in all pipeline systems. PHMSA agrees with AGA's recommendation to clarify that Part J pertains only to the contribution factor(s) while the apparent cause is reported in Part G.

PHMSA F 7100.2 Incident Report—Natural and Other Gas Transmission and Gathering Pipeline Systems

PST, AGA, DTE, SW, PPC, and INGA, and API commented on PHMSA F 7100.2, Gas Transmission and Gathering Systems Incident Report. The comments are summarized and addressed below.

1. DTE noted that “Day Light Savings” in Part A4b should be “Day Light Saving.” PHMSA has made the correction.

2. INGAA recommended that PHMSA incorporate logic in the online form to require all times to be later than the time entered in Part A4 for time and date of the incident. API indicated it believes “PHMSA is requesting the same information in both A4 and A13” and requested that Part A4 be deleted. PHMSA believes there are certain cases where Part A4 will not represent the earliest time reported. Part A4 represents the earliest date and time when one or more definitions of an incident in § 191.3 is met. Part A13 represents the earliest time the operator identified the failure. In some cases, the operator may become aware of a failure before an incident reporting criteria is met. In other cases, one or more incident reporting criteria may be met before the operator becomes aware of the failure.

3. API questioned whether the time zone specified in Part A4a is the default time zone for the remaining questions in the form. PHMSA confirms that the time zone identified in Part A4a is the default time zone (including day light saving time in Part A4b) for the rest of the form.

4. INGAA and DTE recommended retaining Part A8 “Incident resulted from” since those incidents that do not involve a release of gas can be analyzed separately. DTE recommended that PHMSA should retain the ability for operators to report “NO RELEASE OF GAS” or a volume of zero in the form, particularly Parts A7 and A8. PHMSA has ensured the electronic submittal of the form accepts zero in Parts A7 and A8. INGAA recommended that PHMSA keep Part A8 so that those incidents without release of gas can be analyzed separately from those that involve release of gas. As PHMSA noted before, volumes of zero in Parts A7 and A8 will accomplish that goal.

5. API opined that the term “identified” is vague in Part A12 and requested that it be replaced with “initial indication.” PHMSA does not have any evidence that Part A12 wording “How was the incident initially identified by the operator” is confusing to operators as this question has been in place since 2010 without issue. PHMSA does not think API's recommendation “What was the Operator's initial indication of the Accident” would add value to the data collected.

6. API recommended replacing the phrase “Local/State/Federal Emergency Responders” with “Emergency Responders (local/state/federal)” in Part A17a-c. PHMSA does not believe this change would add value to the data collected.

7. API suggests that PHMSA define “Confirmed Discovery” in Part A19. On July 10, 2015, PHMSA published a proposed rule that includes defining “Confirmed Discovery” and adding it to the form. 80 FR 39916. PHMSA is currently reserving Part A19 for “Confirmed Discovery” until a Final Rule is published.

8. DTE noted that there does not appear to be a data entry field provided for the Initial Operator NRC Report Number in Part A20b and suggested that PHMSA add one. PHMSA confirms that Part A20 reads “Initial Operator National Response Center Report Number” and the electronic submission will allow the data entry for the report number or the operator can choose “NRC Notification Required But Not Made.”

9. DTE recommends adding “UNKNOWN” to Parts A21a and A21c. AGA recommends PHMSA adds “unknown” to A21c. PHMSA does not believe “unknown” should be an option in A21a “Did the gas ignite?” Operators should have that information during a reportable incident. PPC and SW recommend that PHMSA revise A21c to “Estimated Volume of Gas Consumed by Fire” from “Volume of Gas Consumed by Fire.” PHMSA agrees and revised the form to accommodate estimation rather than precise volume information. PHMSA understands it is sometimes difficult for operators to accurately determine the volume of gas consumed by fire. However, PHMSA believes an estimate is important to understand the consequences of a gas release.

10. DTE recommended adding “Not Applicable—One Way Feed,” and “Not Applicable—No Downstream Valve” or similar language in Parts 22d through 22f. PHMSA believes the option for Operator Control (and associated mandatory text field) in Parts A22a and A22d will allow operators to enter an explanation more efficiently than adding an exhaustive list of options.

11. DTE noted that it has experienced situations where a pipeline facility was involved that had no unique milepost or survey station associated with it, or had multiple mileposts or survey stations associated with it due to it being a junction of several pipelines. DTE requests PHMSA to expand Part B6 to allow for a free entry of a facility name. Part B6 is free text entry. PHMSA has added an option to choose “Not Applicable” in Part B6, which would require no data in Part B7.

12. PHMSA does not believe INGAA's suggestion to change “Area of Incident (as found)” in Part B10 to “Area of Incident (at the time of incident)” would improve the quality of the data collected. “As found” ensures that operators report what they found upon arrival at the incident site.

13. API noted there should be additional questions and clarifications on Part B11. API requested PHMSA to add the option to select “Bored/Drilled” for water crossing under Part B11, and also to add “Is this water crossing 100 feet or more in length from high water mark to high water mark?” PHMSA agrees with the API suggestions and has revised the form accordingly.

14. DTE recommended adding “Unknown” as a response option for Parts C2 through C5. In Part C2, operators can choose “Material other than Carbon Steel or Plastic” and specify “Unknown” in the text field. PHMSA does not believe “Unknown” should be an option for Part C3. If the operator is reporting an incident, it will know within 30 days which Part C3 option is applicable. Operators already have the option to choose “Unknown” for Part C5 and PHMSA has added the option for “Unknown” in Part C4.

15. PHMSA incorporated API's suggestion to add “Was this a Puddle/Spot Weld?” when “Pipe” is chosen in Part C3. API also recommended removing “auxiliary piping” from all items listed in C3 and keeping the term as a separate item. PHMSA understands that removing auxiliary piping will impact long term trending, but is proposing to look at the items, such as compressor and regulator/control valve, as whole items that include auxiliary piping, connections, valves, and equipment.

16. INGAA recommended entering the original test pressure at the time of construction in Part C3 if “Pipe or Weld/Fusion, including heat affected zone” is selected. PHMSA is proposing to collect the “Post- construction pressure test value” in Part G5.4. PHMSA does not want to collect the same data in multiple places.

17. INGAA recommended removing “Not Flammable” as an option in Part D3. PHMSA believes the option for “Not Flammable” is necessary since not all pipelines subject to reporting on the form transport flammable gas.

18. DTE recommended the cost of gas in Part D7 should be the unit cost rather than the billed unit costs, exclusive of operator overheads and taxes. PHMSA is seeking market price of gas to calculate the consequence of the incident. The unit cost should include all operator overheads, but not taxes. PHMSA has revised the instructions accordingly.

19. PST recommended clarifying the instructions for Part D7d, Property Damage—Other, to state that any cost of security used during investigation or repairs following an incident must be included in the property damage calculation on the incident report. PHMSA agrees and has modified the instructions accordingly.

20. PPC recommended that “Total Cost” be revised to “Estimated Total Cost” to remain consistent with the estimated costs used to calculate the total. PHMSA agrees and has replaced “Total Cost” with “Estimated Total Cost” in Part D7i.

21. AGA noted that Part D7c should be consistent with gas distribution incident form. PHMSA agrees and has revised Part D7c to say “Estimated cost of emergency response.” AGA recommended that the question be re-worded as “Estimated cost of emergency response as incurred by the operator.” PHMSA does not think re-wording is necessary because the instructions clarify Part D7c is seeking to collect information regarding the costs incurred by the operator.

22. PPC believes that operators will be unable to account for persons seeking outpatient care the in the days following an incident. DTE believes that an operator of a transmission system must not be expected to “chase ambulances” to determine how many on-site treatments were administered by EMTs or the number of people treated at medical facilities without admission. PHMSA is proposing to collect number of persons injured, but not requiring overnight, inpatient hospitalization in two categories. The first proposed category is persons treated in a medical facility, but not admitted overnight. The second proposed category is persons treated on scene. These additional categories would more fully capture the consequences of an incident. Currently, operators report the number of overnight, inpatient hospitalizations resulting from an incident. In order to accurately report, operators must communicate with injured parties or medical providers to determine the number of overnight, inpatient hospitalizations. Operators need this same communication to determine the number of persons treated at a medical facility but not admitted overnight. Under the Health Insurance Portability and Accountability Act of 1996, medical providers are permitted, but not required, to disclose protected health information without an individual's authorization in a number of situations. PHMSA encourages operators to communicate directly with injured parties and seek disclosure from medical providers as a last resort. PHMSA expects the number of persons treated on scene, but not in a medical facility, will be readily available.

23. API recommended combining Parts D8 and D9 to report the number of individuals who sustained OSHA recordable incidents. Parts D8 and D9 are not the same as OSHA recordable incidents as the injured person may not be a pipeline worker. PHMSA does not need an OSHA recordable incident number. PHMSA needs to collect the data proposed in Parts D8 and D9 to understand the total human consequence of incidents.

24. INGAA recommended the word “affected” in Parts D10 and D11 be changed to “damaged.” API offered adding the words “evacuated or required repair” next to “Buildings Affected.” PHMSA accepts the wording offered by API and added “Evacuated or Required Repair” next to “Buildings Affected.” This change alleviates INGAA's and DTE's concern about the subjective nature of the word “affected.”

25. INGAA noted that “if any ignition occurs, there could be some terrestrial impact. There could be a single bird involved in the fire.” The questions about terrestrial and wildlife impacts have been part of the PHMSA hazardous liquid accident report form since 2010 and pipeline operators have not expressed any confusion over its intent. Since INGAA has not proposed more adequate instructions, PHMSA has made no change in response to the comment. Operators are able to explain the extent of terrestrial and wildlife in the Part H text field.

26. AGA noted that the reference to maximum operating pressure (MOP) in Part E2c is not appropriate for gas transmission and gathering systems and should be removed. DTE noted that Part E2c should refer to maximum allowable operating pressure (MAOP) rather than MOP. PHMSA has revised Part E2c from MOP to MAOP.

27. DTE recommended incorporating all of the pressure limits allowed in § 192.201(a)(2), particularly for pipelines operating near 75% of SMYS, those at or above 12 psig but below 60 psig, and those operating below 12 psig. PHMSA has revised the Part E3 to remove 100% MAOP and adding “The applicable allowance in § 192.201.”

28. DTE recommended changing Part E5 from “Was the gas odorized at the point of failure?” to “whether the gas was required to odorized in accordance with § 192.615,” and “whether the gas was odorized in accordance with § 192.615.” PHMSA acknowledges the need for clarification and will revise Part E5 to “Was gas at the point of failure required to be odorized in accordance with § 192.615?” and, if yes, “Was gas at the point of the failure odorized in accordance with § 192.615?”

29. API suggested changing Part E10c to replace the word “detection” with the phrase “initial indication.” PHMSA does not believe this change would improve the quality of the data collected by the question. API also recommended changing Part E10d to replace the word “confirmation” with the phrase “confirmed discovery.” On July 10, 2015, PHMSA published a proposed rule that includes defining “confirmed discovery.” 80 FR 39916. PHMSA will not add the term “confirmed discovery” to the form as part of this information collection.

30. PHMSA acknowledges DTE's note that Parts G1.2a and G1.2.b may not be readily available within 30 days of the incident. This data can be submitted through a supplemental report after the information becomes available.

31. AGA recommended adding “Damage from Snow/Ice Impact or Accumulation” under the Part G2 sub-cause. PHMSA has added it. DTE asked which cause section should be used when high winds topple tress and cause tree roots to damage pipelines. In this example, PHMSA advises the operator to select “Tree/Vegetation Root” under Part G2 because the tree roots created the damage.

32. DTE was unable to identify new reporting requirements for excavation damage. The redlined form and instructions in the docket reflect the proposed addition of Parts E3.3b and E3.3c, which address reporting requirements for excavation damage.

33. API/AOPL recommended that PHMSA add two additional fields to Part G3 of the hazardous liquid accident report form. The two additional fields are “exempting authority” and “exempting criteria.” PHMSA acknowledges this additional information would be valuable on all PHMSA incident forms, so it proposes adding them to the gas transmission and gathering incident report as Parts G3.3d and G3.3e.

34. API requested adding a statement on the form to ensure that operators are aware they need to complete questions 5 through 11 when G4, “Damage by Car, Truck, or Other Motorized Vehicle/Equipment NOT Engaged in Excavation” is selected. PHMSA's proposal includes the phrase recommended by API prior to questions 5 through 11 in Part G4.

35. PHMSA acknowledges DTE, INGAA, and API's concerns that operators may not have answers to questions 5 through 11 under G4, “Damage by Car, Truck, or Other Vehicle/Equipment NOT Engaged in Excavation.” PHMSA's proposal includes “Unknown” as an option for questions about driver conduct. PHMSA does not believe these questions need to be removed.

36. API requested examples or clarification of the term “Design-related” proposed in Part G5. PHMSA has revised the instructions to include an example of improper design practices.

37. PHMSA understands that information regarding “Hard Spot” in Part G5.3 may not be readily available to the operator as DTE noted. DTE also noted that “it is not anyone's interest to file supplemental Incident reports to add or correct information not readily available at the time of the incident.” PHMSA disagrees and expects essential data may not be available within 30 days of the incident.

38. API requested clarification of “erosion/abnormal wear” under question 6 in Part G6, “Equipment Failure.” The words used in all 15 factors under question 6 in G6 have common meanings found in the dictionary. PHMSA does not believe that additional definitions would increase the value of the instructions.

39. API suggested updating the list in Part J2 to include more specific tools and currently available In-Line Inspection (ILI) technology. Under API's proposal, two “Ultrasonic” tool runs could be entered in Part J2. However, API proposes collecting additional data about the tool once. The additional data proposed by API must be collected for each tool run. API also recommended collecting the tool propulsion system. Under API's proposal, twenty-two tool runs could be reported in Part J2. The tool propulsion system must be collected for each tool run. PHMSA has modified Part J2 in response to API's comments. PHMSA has made additional improvements to the “Tool Technology” options and additional tool data for each technology. Also, PHMSA proposes collecting the tool propulsion system and detailed tool data for each run reported in Part J2.

40. INGAA proposed changing Part J2 to read, in part, “Other than an initial pressure test recorded in G5,” however, Part J2 is applicable for Parts G1, G3, G4, and G5. PHMSA has added clarification to the form that the initial post-construction pressure test is not to be reported in Part J2.

41. INGAA and AGA recommended revising the introduction to Part K, “Contributing factors” to ensure that the apparent cause of the incident is not selected in Part K. PHMSA has revised the introduction to Part K to emphasize that apparent cause is not to be reported in Part K.

42. INGAA recommended providing operators with access to the original report format for all supplemental reports. In January 2015, PHMSA began collecting data regarding the method operators used to establish MAOP in the form, as approved by OMB. All original reports submitted in January 2015 or later include data indicating the method used by the operator to establish the MAOP of the item involved in the incident. When PHMSA added “MAOP established by” to the incident report in January 2015, PHMSA populated all existing incident reports with “NOT ON OMB-APPROVED FORM WHEN SUBMITTED” as the “MAOP established by” value. Operators have since submitted supplemental reports for 500 of the 600 total reports. One hundred one (101) of these supplemental reports actually specify “MAOP established by.” Three hundred ninety-nine (399) supplemented reports still have a value of “NOT ON OMB-APPROVED FORM WHEN SUBMITTED.” Essentially, operators have had the choice to provide the actual MAOP determination method in supplemental reports, but have not been required to. If PHMSA implemented INGAA's recommendation, operators would not be able to include data approved for collection by OMB after the original report has been submitted. PHMSA prefers to continue giving operators the option to provide newly-approved data in supplemental reports.

43. DTE requested PHMSA revise the burden for each report to 24 hours. PHMSA believes operators may need 24 hours to complete reports for some incidents with serious consequences. However, the majority of reports do not include serious consequences and may take less than 12 hours. PHMSA believes 12 hours per report represents the average burden.

C. PHMSA F 7100.3 Incident Report—Liquefied Natural Gas (LNG) Facilities

PPC, SW and AGA commented on PHMSA F7100.3, Liquefied Natural Gas Incident Report. The comments are summarized and addressed below.

1. To be consistent with PHMSA's other gas incident report forms, PHMSA has added “Time Zone” and “Day Light Saving Time” in Part A4.

2. PPC and SW recommended that PHMSA revise Part A15a to “Estimated Volume of Gas Consumed by Fire” from “Volume of Gas Consumed by Fire.” PHMSA agrees and has revised the form to accommodate estimation rather than precise volume information.

3. PPC and SW recommended that “Total Cost” be revised to “Estimated Total Cost” in Part C1i to remain consistent with the estimated costs used to calculate this total. PHMSA agrees and has made the change on the form.

4. PHMSA is proposing to collect number of persons injured, but not admitted to the hospital overnight to more fully capture the consequence of an incident. DTE commented that PHMSA does not “expect a gas operator to chase ambulances to determine how many on-site treatments were administered by EMT.” PHMSA is proposing to collect number of persons injured, but not requiring overnight, inpatient hospitalization in two categories. The first proposed category is persons treated in a medical facility, but not admitted overnight. The second proposed category is persons treated on scene. These additional categories would more fully capture the consequences of an incident. Currently, operators report the number of overnight, inpatient hospitalizations resulting from an incident. In order to accurately report, operators must communicate with injured parties or medical providers to determine the number of overnight, inpatient hospitalizations. Operators need this same communication to determine the number of persons treated at a medical facility but not admitted overnight. Under the Health Insurance Portability and Accountability Act of 1996, medical providers are permitted, but not required, to disclose protected health information without an individual's authorization in a number of situations. PHMSA encourages operators to communicate directly with injured parties and seek disclosure from medical providers as a last resort. PHMSA expects the number of persons treated on scene, but not in a medical facility, will be readily available.

5. SW and PPC requested a definition of “affected” in Parts A21 and A22. PHMSA has added “evacuated or required repair” to clarify “affected” in Parts A21 and A22.

6. AGA noted that PHMSA should be consistent across all its incident reports in its wording of “Estimated Cost of Operator's Emergency Response” in Part C1c. PHMSA revised the form to be consistent with its other incident reports and removed the word “Operator's” from Part C1c.

D. PHMSA F 7000-1 Accident Report—Hazardous Liquid Pipeline Systems

API/AOPL commented on PHMSA F 7000-1, Hazardous Liquid Pipeline Systems Accident Report. The comments are summarized and addressed below.

1. API/AOPL stated they believe “PHMSA is requesting the same information in both A4 and A13” and requested that Part A4 be deleted. PHMSA notes that Parts A4 and A13 represent two distinct times. Per the instructions, the earliest date/time than an accident reporting criteria is met should be reported in Part A4, whereas Part A13 collects the earliest time the operator identified the failure. In some cases, the operator may become aware of a failure before an accident reporting criteria is met. In other cases, one of more accident reporting criteria may be met before the operator becomes aware of the failure. API/AOPL also questioned whether the time zone specified in Part A4a is the default time zone for the remaining questions in the form. PHMSA confirms that the time zone identified in Part A4a is the default time zone (including day light saving time in Part A4b) for the rest of the form.

2. API/AOPL noted that the term “identified” is vague in Part A12 and requested that the sentence be modified to include “initial indication.” PHMSA does not have any evidence that Part A12 wording, “How was the incident initially identified by the operator,” is confusing to operators as this question has been in place since 2010. PHMSA does not think API/AOPL's recommendation, “What was the Operator's initial indication of the Accident,” would improve the quality of the data collected by the current question.

3. API/AOPL recommended replacing the phrase “Local/State/Federal Emergency Responders” with “Emergency Responders (local/state/federal)” in Part A18a-c. PHMSA does not believe this change would improve the quality of data collected by the current question.

4. API/AOPL suggested defining “Confirmed Discovery” in Part A20. On July 10, 2015, PHMSA published a proposed rule that includes defining “Confirmed Discovery” and adding it to the form. 80 FR 39916. PHMSA is currently reserving Part A19 for “Confirmed Discovery” until a Final Rule is published.

5. API/AOPL recommended defining the terms “activate” and “mobilize” in Part A24. PHMSA has changed “activate the plan” to “notify a qualified individual.” PHMSA has changed “mobilize OSRO” to “activate ORSO.” The terms “notify” and “activate” in these contexts have common meanings found in the dictionary.

6. API/AOPL noted there should be additional questions and clarifications on Part B12. API requested adding the option “Bored/Drilled” for water crossing under Part B12 and adding, “Is this water crossing 100 feet or more in length from high water mark to high water mark?” PHMSA agrees with the suggestions and revised the form accordingly.

7. PHMSA incorporated API/AOPL's suggestion to add “Was this a Puddle/Spot Weld?” when “Pipe” is chosen in C3. API/AOPL also recommended that PHMSA remove “auxiliary piping” from all items listed in Part C3 and keeping the term as a separate item. PHMSA understands that removing auxiliary piping will impact long term trending, but is proposing to look at the items, such as pump and control valve, as whole items that include auxiliary piping, connections, valves, and equipment.

8. API/AOPL requested removal of Part D2a, which collects data about the amount of soil hauled away plus the amount treated on site. API/AOPL noted that soil absorption rates will differ based on the product released and the soil type. PHMSA understands that soil absorption rates will differ based on the product released and would like to capture the soil impact of the releases. API/AOPL also noted that operators may remove soil that was not contaminated as precautionary measure during spill response and clean up. Part D2a requests information on the overall impact on soil, including soil removed or treated on site as a result of the spill, therefore, any soil removed as a direct result of the spill would be reported. PHMSA has not removed this question.

9. API/AOPL requested clarification about water contamination in Part D5. Specifically, API/AOPL asked if the answer should be limited to permanent bodies of water. Surface water can be intermittent, especially in arid portions of the country. If a surface waterbody were dry and spilled product entered the surface body, the operator should report no water contamination. API/AOPL also asked for clarification regarding whether rain water caught in a berm should be considered water contamination. Surface waterbodies include creeks and rivers. Rain water caught in a berm is not a surface waterbody.

10. API/AOPL recommended combining Parts D8 and D9 to report the number of individual who sustained OSHA recordable incidents. Parts D8 and D9 are not the same as OSHA recordable incidents as the injured person may not be a pipeline worker. PHMSA does not need the OSHA recordable incident number. PHMSA needs to collect the data proposed in Parts D8 and D9 to understand the human consequence of accidents.

11. API/AOPL offered adding the words “Evacuated or Required Repair” next to “Buildings Affected” in Parts D11 and D12. PHMSA accepts the wording offered by API/AOPL and added “Evacuated or Required Repair” next to “Buildings Affected.”

12. API/AOPL noted that the response options on the form for Parts E2a are solely focused on a hydrostatic test conducted post-construction. API/AOPL requested that more options be available to the operator and that PHMSA clearly define the current options or reference the appropriate regulation. Part E2a includes four response options. The first option is “post-construction hydrostatic testing.” Contrary to the API/AOPL comment, the remaining three options are not focused solely on hydrostatic test during post-construction. PHMSA has added the regulation applicable to each response option to provide clarity.

13. API/AOPL recommended allowing six digits for length of segment in Part E5. PHMSA will ensure that the online application allows six digit entry.

14. API/AOPL suggested changing Parts E9 and E10 to replace the word “detection” with the phrase “initial indication.” PHMSA does not believe this change would improve the quality of the data collected by the question. API also recommended changing the word “confirmation” with the phrase “confirmed discovery” in these parts. On July 10, 2015, PHMSA published a proposed rule that includes defining “confirmed discovery.” 80 FR 39916. PHMSA will not add the term “confirmed discovery” to the form as part of this information collection.

15. API/AOPL recommended adding exempting authority and exempting criteria in G3, Excavation Damage. PHMSA acknowledges this additional information will be helpful and has added the recommended questions.

16. API/AOPL asked for a statement on the form to ensure that operators are aware they need to complete questions 5 through 11 when they pick Part G4- “Damage by Car, Truck, or Other Motorized Vehicle/Equipment NOT Engaged in Excavation. PHMSA's proposal includes the phrase recommended by API prior to questions 5 through 11 in Part G4. PHMSA acknowledges API/AOPL's concern that operators may not have answers to all questions and recognizes that “unknown” may be a valid response to those questions.

17. API/AOPL requested examples or clarification of the term “Design-related” in Part G5. PHMSA has revised the instruction to include an example of improper design practices.

18. API/AOPL requested clarification of “erosion/abnormal wear” in Part G6.6. The words used in all 15 factors under Part G6.6 have common meanings found in the dictionary. PHMSA does not believe that additional definitions would improve the instructions.

19. API suggested updating the list in Part J2 to include more specific tools and currently available ILI technology. Under API's proposal, two “Ultrasonic” tool runs could be entered in Part J2. However, API proposes collecting additional data about the tool once. The additional data proposed by API must be collected for each tool run. API also recommended collecting the tool propulsion system. Under API's proposal, twenty-two tool runs could be reported in Part J2. The tool propulsion system must be collected for each tool run. PHMSA has modified Part J2 in response to API's comments. PHMSA has made additional improvements to the “Tool Technology” options and additional tool data for each technology. Also, PHMSA proposes collecting the tool propulsion system and detailed tool data for each run reported in Part J2.

E. Miscellaneous Comments

NORMAC believes that the proposed contributing factors on PHMSA's form should be eliminated. PHMSA added the contributing factors in response to NTSB recommendation P-15-16 and several other commentators agree with the usefulness of the information. PHMSA believes that NORMAC's other comments regarding the data quality are outside the scope of this Federal Register notice. PHMSA acknowledges PST's recommendation to lower reporting requirements for natural gas transmission line. However, as PST acknowledges, such a change would require a rulemaking and is beyond the scope of this data collection effort. Common Ground Alliance (CGA) noted that several of PHMSA's questions in Forms 7100.1 and 7100.2 (G3) parallel CGA's Damage Information Reporting Tool and these questions may be revised in 2018. PHMSA participates in CGA and plans to propose changes as needed in response to CGA DIRT question changes.

II. Summary of Impacted Collection

Section 1320.8(d), title 5, Code of Federal Regulations, requires PHMSA to provide interested members of the public and affected agencies an opportunity to comment on information collection and recordkeeping requests. This notice identifies two information collection requests that PHMSA will submit to OMB for renewal. PHMSA expects many of the new data elements are already known by the operator and that no report requires the completion of all fields on the forms. PHMSA has estimated the burdens below by adding 20% to the previous burdens, resulting 12 hours instead of 10 for the completion of each report.

The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Incident Reporting for Gas and LNG

OMB Control Number: PHMSA will request from OMB.

Current Expiration Date: N/A.

Type of Request: Approval of a new collection.

Abstract: PHMSA is proposing revision to the following incident report forms to improve the granularity of the data collected in several areas: Gas Distribution Incident Report (PHMSA F. 7100.1); Incident Report—Natural and Other Gas Transmission and Gathering Pipeline System (PHMSA F 7100.2); and Incident Report—Liquefied Natural Gas Facilities (PHMSA F 7100.3). PHMSA is also requesting a new OMB Control Number to collectively cover these forms.

Affected Public: Pipeline Operators.

Annual Reporting and Recordkeeping Burden:

Estimated number of responses: 301.

Estimated annual burden hours: 3,612.

Frequency of collection: On occasion.

2. Title: Transportation of Hazardous Liquids by Pipeline: Recordkeeping and Accident Reporting

OMB Control Number: 2137-0047.

Current Expiration Date: 12/31/2016.

Type of Request: Revision.

Abstract: This information collection covers recordkeeping and accident reporting by hazardous liquid pipeline operators who are subject to 49 CFR part 195. PHMSA is proposing to revise the form PHMSA F7000-1 to improve the granularity of the data collected in several areas.

Affected Public: Hazardous liquid pipeline operators.

Annual Reporting and Recordkeeping Burden:

Annual Responses: 847.

Annual Burden Hours: 56,229.

Frequency of collection: On occasion.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on December 21, 2016, under authority delegated in 49 CFR 1.97.
Alan K. Mayberry,
Associate Administrator for Pipeline Safety.

[FR Doc. 2016-31221 Filed 12-23-16; 8:45 am]

BILLING CODE 4910-60-P